DEPARTMENT OF TRANSPORTATION

Federal Highway Administration

Rescinding a Notice of Intent To Prepare an Environmental Impact Statement for the I-71/I-75 Brent Spence Bridge Corridor Improvements Project, Hamilton County, OH and Kenton County, KY

AGENCY: Federal Highway Administration (FHWA), Department of Transportation (DOT).

ACTION: Notice to rescind a notice of intent to prepare an environmental impact statement.

SUMMARY: The FHWA, in cooperation with the Ohio Department of Transportation (ODOT), is issuing this Notice to advise the public that we are rescinding the July 20, 2006 Notice of Intent (NOI) to Prepare an Environmental Impact Statement (EIS) for the I-71/I-75 Brent Spence Bridge corridor improvements project, located in Hamilton County, Ohio and Kenton County, Kentucky. We are rescinding the NOI because the project was down scoped to an Environmental Assessment (EA) in 2010 and a Finding of No Significant Impact (FONSI) was issued in 2012.

FOR FURTHER INFORMATION CONTACT: For FHWA: Laura S. Leffler, Division Administrator, Federal Highway Administration, Ohio Division, 200 North High Street, Suite 328, Columbus, OH 43215, Telephone: (614) 280-6896, Email: Laurie.leffler@dot.gov. For ODOT: Timothy McDonald, Deputy Director, Division of Planning, 1980 West Broad Street, Mail Stop 3200, Columbus, OH 43223, Telephone: (614) 644-0273, Email: Tim.McDonald@dot.ohio.gov.

SUPPLEMENTARY INFORMATION:

Electronic Access

An electronic copy of this notice may be downloaded from the Office of the Federal Register's website at www.FederalRegister.gov and the Government Publishing Office's website at www.GovInfo.gov.

Background

The FHWA, in cooperation with the ODOT, previously intended to prepare an EIS for proposed improvements toI-71/I-75 and connecting routes in the vicinity of the existing Brent Spence Bridge Ohio River crossing and the Cities of Cincinnati, OH and Covington, KY. The NOI, which was published in the Federal Register on July 20, 2006 (71 FR 41310), indicated that the purpose and need of the project was to improve traffic flow and level of service, improve safety, correct geometric deficiencies, and maintain links in key mobility, trade, and national defense transportation corridors.

As stated in the 2006 NOI, alternatives under consideration included: (1) Taking no action; (2) rehabilitation/upgrading of the existing infrastructure combined with construction of new facilities on new alignment; (3) replacement infrastructure on new alignment; and, (4) other alternatives that may be developed during the National Environmental Policy Act (NEPA) process. During the NEPA process, the conceptual alternatives were narrowed to feasible alternatives that essentially stayed on the I-71/75 mainline, reducing the potential impacts from the project. Due to this, ODOT asked that the project be down scoped to an EA on December 11, 2009, which FHWA agreed to on March 11, 2010. An EA was prepared and a FONSI was approved on August 9, 2012. However, the NOI was not rescinded at that time. FHWA is rescinding the NOI at this time. Should a need to prepare an EIS arise in the future, then another NOI would be issued at that time.

(Catalog of Federal Domestic Assistance Program Number 20.205, Highway Research, Planning and Construction. The regulations implementing Executive Order 12372 regarding intergovernmental consultation on Federal programs and activities apply to this program)

Authority: 42 U.S.C. 4321 et seq.; 23 CFR part 771.

Issued on: September 8, 2021.
Laura S. Leffler,
Ohio Division Administrator, Federal Highway Administration.

[FR Doc. 2021-19745 Filed 9-13-21; 8:45 am]

BILLING CODE 4910-22-P